COMMISSION ON CIVIL RIGHTS

Sunshine Act Meeting Notice

AGENCY: United States Commission on Civil Rights.

ACTION: Notice of Commission Briefing and Business Meeting.

DATES: Friday, May 19, 2017, at 9:30 a.m. EST.

ADDRESSES: National Place Building, 1331 Pennsylvania Ave. NW., 11th Floor, Suite 1150, Washington, DC 20245 (Entrance on F Street NW.)

FOR FURTHER INFORMATION CONTACT: Brian Walch: (202) 376-8371; TTY: (202) 376-8116; publicaffairs@usccr.gov.

SUPPLEMENTARY INFORMATION: This briefing and business meeting is open to the public. The event will be live-streamed at: https://www.youtube.com/user/USCCR/videos. The link is subject to change. Any updates to the information will be found on the Commission Web site and on Twitter and Facebook. There will also be a call-in line (listen only) for individuals who desire to listen to the presentations: 1-888-481-2844; Conference ID: 6912715.

Hearing-impaired persons who will attend the briefing and require the services of a sign language interpreter should contact Pamela Dunston at (202) 376-8105 or at signlanguage@usccr.gov at least three business days before the scheduled date of the meeting.

During the briefing portion, Commissioners will ask questions and discuss the civil rights topic with the panelists. The public may submit written comments on the briefing topic to the above address for 30 days after the briefing. Please direct your comments to the attention of the “Staff Director” and clearly mark “Briefing Comments Inside” on the outside of the envelope. Please note we are unable to return any comments or submitted materials. Comments may also be submitted by email to reentry@usccr.gov.

Meeting Agenda

I. Approval of Agenda

II. Public Briefing on Collateral Consequences: The Crossroads of Punishment, Redemption, and the Effects on Communities (9:30 a.m. for opening remarks)

A. Panel One: Overview of Collateral Consequences of Incarceration: 9:40 a.m.-11:05 a.m.

National experts provide an overview of the long-lasting effects of incarceration after a prison sentence has ended. Panelists will discuss how these continuing barriers impact recidivism and particular communities.

Speakers' Remarks:

• Margaret Love, Executive Director, Collateral Consequences Resource Center

• Vikrant Reddy, Senior Research Fellow, Charles Koch Institute

• Traci Burch, Associate Professor of Political Science, Northwestern University

• John Malcolm, Vice President of the Institute for Constitutional Government, Heritage Foundation

• Naomi Goldberg, Policy and Research Director, Movement Advancement Project

B. Panel Two: Access to Civil Participation after Incarceration: 11:10 a.m.-12:15 p.m.

National experts and professors discuss the barriers to civil participation following incarceration, specifically focusing on the right to vote and jury participation.

Speakers' Remarks:

• Marc Mauer, Executive Director, The Sentencing Project

• Hans von Spakovsky, Senior Legal Fellow, Meese Center for Legal and Judicial Studies, Heritage Foundation

• James Binnall, Assistant Professor of Law, Criminology, and Criminal Justice, California State University at Long Beach

• Anna Roberts, Assistant Professor, Seattle University School of Law and Faculty Fellow, Fred T. Korematsu Center for Law and Equality

Lunch Break: 12:15 p.m.-1:15 p.m.

C. Panel Three: Access to Self-Sufficiency and Meeting Basic Needs: 1:15 p.m.-2:30 p.m.

National experts discuss the barriers to self-sufficiency and meeting basic needs after incarceration. Panelists will focus on employment, housing and access to public benefits.

Speakers' Remarks:

• Maurice Emsellem, Program Director, National Employment Law Project

• Kate Walz, Director of Housing Justice, Sargent Shriver National Center on Poverty Law

• Amy Hirsch, Managing Attorney, North Philadelphia Law Center; Welfare, Aging and Disabilities Units, Community Legal Services

• Marc Levin, Director, Center for Effective Justice; Texas Public Policy Foundation; Right on Crime

D. Adjourn Briefing—2:45 p.m.

III. Break: 2:45 p.m.-3:00 p.m.

IV. Business Meeting

A. Program Planning

• FY 2017: Discussion and vote on third briefing

B. State Advisory Committees

• Vote on appointments to the Michigan Advisory Committee

• Vote on appointments to the New Hampshire Advisory Committee

C. Management and Operations

• Staff Director's Report

V. Adjourn Meeting

Dated: May 9, 2017.
Brian Walch,
Director, Communications and Public Engagement.

[FR Doc. 2017-09695 Filed 5-9-17; 4:15 pm]

BILLING CODE 6335-01-P